DEPARTMENT OF COMMERCE

Foreign-Trade Zones Board

[B-33-2012]

Foreign-Trade Zone 220—Sioux Falls, SD; Authorization of Production Activity; Rosenbauer America, LLC/Rosenbauer South Dakota, LLC, (Emergency Vehicles/Firefighting Equipment), Lyons, SD

On April 30, 2012, the Sioux Falls Development Foundation, grantee of FTZ 220, submitted a notification of proposed production activity to the Foreign-Trade Zones (FTZ) Board on behalf of Rosenbauer America, LLC/Rosenbauer South Dakota, LLC, within FTZ 220—proposed Site 8, in Lyons, South Dakota.

The notification was processed in accordance with the regulations of the FTZ Board (15 CFR part 400), including notice in the Federal Register inviting public comment (77 FR 27417-27418, 05/10/2012). The FTZ Board has determined that no further review of the activity is warranted at this time. The production activity described in the notification is authorized, subject to the FTZ Act and the Board's regulations, including Section 400.14.

Dated: August 28, 2012.
Andrew McGilvray,
Executive Secretary.

[FR Doc. 2012-21997 Filed 9-5-12; 8:45 am]

BILLING CODE 3510-DS-P